Proclamation 10086 of September 30, 2020

National Cybersecurity Awareness Month, 2020

By the President of the United States of America

A Proclamation

As technology continues to progress and new kinds of threats arise around the world, cybersecurity is playing an increasingly central role in our national security and daily lives. During National Cybersecurity Awareness Month, we recommit to ensuring our Nation's cybersecurity, and we raise awareness of the responsibility all Americans have to protect their Internet-connected devices, technology, and networks from cyber threats at work, home, and school.

My Administration is proud of the steps we have taken to promote technological innovation and bolster cybersecurity measures. We continue to prioritize Science, Technology, Engineering, and Mathematics (STEM) education and employment opportunities, and my Pledge to America's Workers has encouraged companies to provide educational opportunities for nearly 15 million American workers, especially in areas such as artificial intelligence, quantum computing, cybersecurity, and secure 5G. I also signed the Supporting Veterans in STEM Careers Act, which encourages veterans to study and pursue careers in STEM and computer science when they leave military service. These measures are vital to advancing our defenses and ensuring that the American people have the cyber skills necessary to defend our country.

As our Nation continues to innovate, 5G technology will have a major effect on how we live our daily lives in the future. New opportunities, however, also bring new risks, which is why my Administration is leading 5G risk mitigation efforts to ensure that Americans can fully benefit from this new connectivity while keeping their devices safe and secure. In addition, in March, I signed the Secure and Trusted Communications Networks Act, which is strengthening our network defenses against threats from hostile actors. The American people and our allies deserve to know that our 5G networks will be reliable, private, and secure.

We must all work together to create a safer, more secure, and more resilient cyber world. As my Administration collaborates with private industry partners to strengthen and enhance the security of our Nation's technological infrastructure, I encourage all Americans to embrace their responsibility to protect their sensitive data and to familiarize themselves with the Cybersecurity and Infrastructure Security Agency's STOP. THINK. CONNECT. campaign. All devices are potentially vulnerable. But you can greatly enhance the safety of your personal information and that of your family, friends, and employers by adhering to the advice offered by the campaign and improving your cyber hygiene.

NOW, THEREFORE, I, DONALD J. TRUMP, President of the United States of America, by virtue of the authority vested in me by the Constitution and the laws of the United States, do hereby proclaim October 2020 as National Cybersecurity Awareness Month. I call upon the people, companies, and institutions of the United States to recognize the importance of cybersecurity and to observe this month through events, training, and education to further our country's national security and resilience.

IN WITNESS WHEREOF, I have hereunto set my hand this thirtieth day of September, in the year of our Lord two thousand twenty, and of the Independence of the United States of America the two hundred and forty-fifth.

[FR Doc. 2020-22182

Filed 10-5-20; 8:45 am]

Billing code 3295-F1-P